SOCIAL SECURITY ADMINISTRATION

20 CFR Part 403

[Docket No. SSA-2007-0077]

RIN 0960-AG76

Testimony by Employees and the Production of Records and Information in Legal Proceedings; Change of Address for Requests

AGENCY: Social Security Administration.

ACTION: Final rule.

SUMMARY: Our regulations describe when a Social Security Administration (SSA) employee will testify or provide records or other information in a legal proceeding to which we are not a party. The regulations also describe how you request testimony of an SSA employee. This final rule updates the address you should use to request testimony of an SSA employee.

DATES: This final rule is effective May 8, 2008.

FOR FURTHER INFORMATION CONTACT: Martin Sussman, Office of Regulations, Social Security Administration, 6401 Security Boulevard, Baltimore, Maryland 21235-6401. Call (410) 965-1767 for further information about these rules. For information on eligibility or filing for benefits, call our national toll-free number, 1-800-772-1213 or TTY 1-800-325-0778, or visit our Internet Web site, Social Security Online, at http://www.socialsecurity.gov.

SUPPLEMENTARY INFORMATION:

Electronic Version

The electronic file of this document is available on the date of publication in the Federal Register at http://www.gpoaccess.gov/fr/index.html.

Why are we revising our rules on requesting testimony of an SSA employee?

Our regulations at 20 CFR Part 403 describe when an SSA employee will testify or provide records or other information in a legal proceeding to which we are not a party. The regulations also describe how you request testimony of an SSA employee. At 20 CFR 403.120(c), we provide a post office box address for you to use to request testimony of an SSA employee. The address has changed; therefore, we are updating the regulations to reflect the new address. We are not making any substantive changes to the regulations.

Regulatory Procedures

Justification for Final Rule

As required by section 702(a)(5) of the Social Security Act, 42 U.S.C. 902(a)(5), we follow the Administrative Procedure Act (APA) rulemaking procedures specified in 5 U.S.C. 553 in developing regulations. The APA provides that prior notice and public comment is not required when an agency finds good cause for dispensing with such procedures because they are impracticable, unnecessary, or contrary to the public interest. We have determined that, under 5 U.S.C. 553(b)(B), good cause exists here because this final rule only updates the address to be used for requesting testimony of an SSA employee. It makes no substantive changes to the regulations. Therefore, we have determined that opportunity for prior comment is unnecessary, and we are issuing this revision as a final rule.

In addition, we find good cause for dispensing with the 30-day delay in the effective date provided by 5 U.S.C. 553(d)(3). As explained above, we are not making any substantive changes to the regulations. Without the correct address, there could be a delay in receiving these requests for testimony of an SSA employee. In order to ensure that we continue to receive these requests timely, we find that it is in the public interest to make this final rule effective on the date of publication.

Executive Order 12866

We have consulted with the Office of Management and Budget (OMB) and determined that this final rule does not meet the criteria for a significant regulatory action under Executive Order 12866, as amended. Thus, it was not subject to OMB review.

Regulatory Flexibility Act

We certify that this final rule will not have a significant economic impact on a substantial number of small entities because they affect only individuals. Thus, a regulatory flexibility analysis as provided in the Regulatory Flexibility Act, as amended, is not required.

Paperwork Reduction Act

These regulations describe the procedures for an individual to request testimony of an SSA employee. The application for testimony is a paperwork burden that requires clearance by the Office of Management and Budget (OMB) under the Paperwork Reduction Act of 1995. SSA has already cleared the burden contained in 20 CFR 413.120 under OMB Number 0960-0619, and there is no change. Consequently, we are showing a 1-hour placeholder for the paperwork burden for this rule.

An Information Collection Request has been submitted to OMB for clearance. We are soliciting comments on the burden estimate; the need for the information; its practical utility; ways to enhance its quality, utility and clarity; and on ways to minimize the burden on respondents, including the use of automated collection techniques or other forms of information technology.

Comments should be sent to OMB by fax or by e-mail to: Office of Management and Budget, Attn: Desk Office for SSA, Fax Number: 202-395-6974, E-mail address: OIRA_Submission@omb.eop.gov.

Comments on the paperwork burdens associated with this rule can be received for up to 30 days after publication of this notice. When OMB has approved these information collection requirements, SSA will publish a notice in the Federal Register. To receive a copy of the OMB clearance package, please contact the Reports Clearance Officer at OPLM.RCO@ssa.gov.

(Catalog of Federal Domestic Program Nos. 96.001 Social Security-Disability Insurance; 96.002 Social Security-Retirement Insurance; 96.004 Social Security-Survivors Insurance; 96.005 Special Benefits for Disabled Coal Miners; 96.006 Supplemental Security Income; and 96.020 Special Benefits for Certain World War II Veterans)

List of Subjects in 20 CFR Part 403

Courts, Government employees.

Dated: April 30, 2008.
Michael J. Astrue,
Commissioner of Social Security.

For the reasons set out in the preamble, part 403 of chapter III of title 20 of the Code of Federal Regulations is amended as follows:

PART 403—TESTIMONY BY EMPLOYEES AND THE PRODUCTION OF RECORDS AND INFORMATION IN LEGAL PROCEEDINGS

1. The authority citation for part 403 continues to read as follows:

Authority: Secs. 702(a)(5) and 1106 of the Act, (42 U.S.C. 902(a)(5) and 1306); 5 U.S.C. 301; 31 U.S.C. 9701.

2. In § 403.120, revise paragraph (c) to read as follows:

§ 403.120 How do you request testimony?

* * * * *

(c) You must send your application for testimony to: Social Security Administration, Office of the General Counsel, Office of General Law, Suite No. 56, P.O. Box 26430, Baltimore, Maryland 21207, Attn: Touhy Officer. (If you are requesting testimony of an employee of the Office of the Inspector General, send your application to the address in § 403.125.)

* * * * *

[FR Doc. E8-10256 Filed 5-7-08; 8:45 am]

BILLING CODE 4191-02-P